DEPARTMENT OF TRANSPORTATION

Federal Aviation Administration

[Docket: FAA-2025-2256]

Notice of Availability; Federal Aviation Administration's Errata to the Environmental Assessment and Record of Decision for Settlement Agreement Departure Procedure Amendments at Bob Hope “Hollywood Burbank” Airport, Burbank, California

AGENCY: Federal Aviation Administration (FAA), Department of Transportation.

ACTION: Notice of availability (NOA) for the errata to the environmental assessment (EA) and record of decision (ROD) for settlement agreement departure procedure amendments at Bob Hope “Hollywood Burbank” Airport (BUR), Burbank, California.

SUMMARY: The FAA announces its decision to finalize its EA pertaining to the proposed settlement agreement departure procedure amendments at BUR.

FOR FURTHER INFORMATION CONTACT: Mr. Joseph Bert, Federal Aviation Administration, Team Manager, Environmental/Community Involvement/NAS Analytics, Operations Support Group, Western Service Center |, email: Joseph.M.Bert@faa.gov.

SUPPLEMENTARY INFORMATION:

Background

The FAA originally established satellite-based area navigation (RNAV) departure procedures at BUR as a part of the 2016 Southern California Metroplex project. Following the implementation of the original procedures and beginning in 2018, the FAA received letters from a wide range of officials, individuals, and community groups related to noise at BUR. As the result of a lawsuit filed against the FAA on October 24, 2016, the FAA entered into a settlement agreement with the Benedict Hills Estates Association and Benedict Hills Homeowners Association (Settlement Agreement) on March 3, 2018.

On March 25, 2019, based on public feedback, the FAA announced its decision to prepare an environmental assessment (EA) to consider proposed amendments to the OROSZ and SLAPP departure procedures at BUR to fulfill its obligations under the Settlement Agreement. The FAA noted in its announcement that it would not include a re-evaluation of the Southern California Metroplex project. Informational briefings and updates were posted to the FAA's community engagement website in July 2019. On October 4, 2019, the FAA announced that it had awarded a contract to conduct the EA.

The FAA developed Alternative A in compliance with the initial design outlined in the Settlement Agreement. The FAA presented, and later posted, presentations and materials to the Southern San Fernando Valley Airplane Noise Task Force (Task Force) on December 9, 2019, describing Alternative A. The FAA encountered delays in completing the EA that arose from the 2020 COVID-19 public health emergency. The project was further delayed to appropriately consider recommendations provided by the Task Force in May 2020. The FAA responded to each of the recommendations set forth by the Task Force in a letter dated September 1, 2020, and incorporated the recommendations that the FAA deemed to be technically feasible in the development of alternatives for the EA, which eventually became Alternative B.

The FAA continued to work on the EA from 2020 through 2023, and on November 30, 2023, the FAA published a draft EA (DEA) entitled “Proposed Settlement Agreement Departure Procedure Amendments for Hollywood Burbank Airport.” The DEA identified the environmental effects associated with the potential implementation of Alternatives A and B, which considered the adoption of new procedures for Runway 15 departures at BUR.

On December 11, 2023, the FAA published a notice of availability in the Federal Register to announce the release of the DEA. The public comment period was open for a total of 105 days, from December 11, 2023, through March 24, 2024. The DEA and supplemental information provided during the public comment period were published on the FAA's Community Engagement website. The FAA received 1,116 comments during the DEA public comment period.

Findings and Decision

The FAA carefully weighed Alternative A, Alternative B, and the No Action Alternative to identify potential impacts to the quality of the environment that could arise from the implementation of each of the alternatives considered. The No Action Alternative comprises the current SLAPP TWO and OROSZ TWO departure procedures with no change to baseline conditions.

While Alternative A satisfies the objectives of the Settlement Agreement, it would result in significant noise impacts—including to a public school, Luther Burbank Middle School— compared to the No Action Alternative. Based on these significant impacts, Alternative A is not the preferred alternative.

Alternative B would: not meet the terms of the Settlement Agreement, not achieve the Task Force's objectives of reducing BUR noise impacts, require a waiver to design criteria, discriminate economically, and reduce efficiency for air traffic control and pilots, which could result in a detrimental effect on safety. For these reasons, Alternative B is not the preferred alternative.

The Federal Aviation Act of 1958 gives the FAA administrator the authority and responsibility to assign by order or regulation the use of navigable airspace to ensure the safety of aircraft and the efficient use of the airspace. Consistent with 49 U.S.C. 40103(b)(1), the FAA shall develop plans and policies for the use of the navigable airspace and assign the use of airspace necessary to ensure the safety of aircraft and the efficient use of airspace. In the FAA's continuous effort to ensure the safety of aircraft and improve the efficiency of transit through the navigable local airspace, the FAA carefully weighed the No Action Alternative with Alternative A and Alternative B.

After carefully considering the long-term environmental effects and the safety considerations associated with proposed Alternatives A and B, the FAA has determined that the preferred alternative is the No Action Alternative. Therefore, the FAA has determined to proceed under the No Action Alternative.

The FAA signed the ROD on August 5, 2025. The ROD is available on the FAA website at: https://www.faa.gov/air_traffic/community_engagement/bur.

Issued in Des Moines, Washington, on August 8, 2025.
Byron Chew,
Group Manager, Operations Support Group, Western Service Center.

[FR Doc. 2025-15302 Filed 8-11-25; 8:45 am]

BILLING CODE 4910-13-P